DEPARTMENT OF ENERGY

Federal Energy Regulatory Commission

[Docket No. CP03-32-000]

Northwest Pipeline Corporation; Notice of Intent To Prepare an Environmental Assessment for the Proposed White River Replacement Project and Request for Comments on Environmental Issues

January 28, 2003.

The staff of the Federal Energy Regulatory Commission (FERC or Commission) will prepare an environmental assessment (EA) that will discuss the environmental impacts of the White River Replacement Project involving construction and operation of facilities by Northwest Pipeline Corporation (Northwest) on its Ignacio to Sumas mainline in King County, Washington.¹ These facilities consist of approximately 4,400 feet each of parallel 26-inch- and 30-inch-diameter pipelines at the White River crossing located 3.3 miles east of the City of Auburn, Washington. This EA will be used by the Commission in its decision-making process to determine whether the project is in the public convenience and necessity.

¹ Northwest's application was filed with the Commission under section 7 of the Natural Gas Act and part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Northwestprovided to landowners. This fact sheet addresses a number of typically asked questions, including the use of eminent domain and how to participate in the Commission's proceedings. It is available for viewing on the FERC Internet Web site (www.ferc.gov).

Summary of the Proposed Project

The purpose of the proposed project is to provide a more permanent solution for improved pipeline safety and reliability while restoring the natural environment of the White River and its floodplain at this crossing. Recent highwater events have increased the risk of exposure to the parallel 26-inch- and 30-inch-diameter pipelines (existing pipelines) underneath the White River and along its south and north banks. A previously abandoned 26-inch-diameter pipeline has been exposed presenting a hazard to recreational use of the White River. Northwest installed a temporary rip-rap structure on the north riverbank in 1996 to protect its existing pipelines.

Northwest proposes to replace the pipelines at a deeper depth by constructing 4,300 feet of parallel 26-inch- and 30-inch-diameter pipelines (replacement pipelines) using a combination of horizontal directional drill (HDD) and conventional open-trench construction. Northwest proposes to abandon, in place and by removal, 3,200 feet of existing pipelines as well as retain 1,100 feet of existing pipelines. Northwest would also remove the previously abandoned 26-inch-diameter pipeline and the rip-rap structure, and would reconstruct the north riverbank to its surrounding contours (see Table 1). Northwest seeks authority to:

• Abandon by removal approximately 2,100 feet of existing pipelines from 3 sections: the south floodplain; the north riverbank; and a private property.

• Abandon in place approximately 1,100 feet of existing pipelines from 3 sections: underneath the White River channel (pipelines filled with grout); the slope above the north riverbank (pipelines filled with nitrogen and capped); and underneath State Highway 164 (pipelines immediately underneath highway filled with grout, remaining pipelines filled with nitrogen and capped).

• Retain approximately 1,100 feet of existing pipelines for continued service to the Enumclaw Meter Station.

• Remove the north riverbank rip-rap structure, 380 feet of sheet piling from the south floodplain, and the 665-foot-long previously abandoned 26-inch-diameter pipeline from the White River channel.

• Install approximately 1,200 feet of replacement pipelines in the south floodplain using conventional construction.

Table 1.—Construction and Abandonment Facilities Proposed by Northwest
Project component | Length (feet) | Beginning stationing | Ending stationing
Abandon by Removal 26″ & 30″ Existing Pipelines in the North Bank Structure | 325 | 15388+93 | 15391+40
Abandon by Removal 26″ Existing Pipeline in the South Floodplain | 1360 | 15370+30 | 15384+10
Abandon by Removal 30″ Existing Pipeline in the South Floodplain | 1420 | 15370+30 | 15384+49
Abandon by Removal 26″ & 30″ Existing Pipelines on Private Property | 300 | 15395+23 | 15397+60
Abandon In Place 26″; Existing Pipeline under the White River | 500 | 15384+10 | 15388+93
Abandon In Place 30″ Existing Pipeline under the White River | 450 | 15384+49 | 15388+93
Abandon In Place 26″ & 30″ Existing Pipelines under State Highway 164 | 340 | 15397+60 | 15400+21
Abandon In Place 26″ & 30″ Existing Pipelines on the North Bank Slope | 410 | 15391+40 | 15395+23
Retain 26″ & 30″ Existing Pipelines for Service Feed to the Enumclaw Meter Station | 1,100 | 15402+00 | 15413+00
Remove Sheet Piling in the South Floodplain | 380 | 15380+74 | 15384+23
Remove the North Bank Structure |  | 15388+39 | 15390+22
Remove the previously abandoned 26″ Pipeline from the White River | 665 | 15383+59 | 15390+21
Install 26″ Replacement Pipeline by HDD | 3120 | 15378+62 | 15409+83
Install 30″ Replacement Pipeline by HDD | 3260 | 15377+62 | 15410+23
Install 26″ Replacement Pipeline in the South Floodplain by conventional trenching | 830 | 15370+30 | 15378+62
Install 30″ Replacement Pipeline in the South Floodplain by conventional trenching | 730 | 15370+30 | 15377+62
Tie-in 26″ Replacement Pipeline at north end by conventional trenching | 340 | 15409+83 | 15413+21
Tie-in 30″ Replacement Pipeline at north end by conventional trenching | 300 | 15410+23 | 15413+21

• Install approximately 3,200 feet of replacement pipelines with 2 parallel HDDs traversing underneath the floodplain and White River channel, the slope north of the White River, State Route 164, and Cameron Park.

• Install 300-340 feet of replacement pipelines at the north end of the project to tie into the HDD pipelines.

Northwest must construct the replacement pipelines with HDD prior to removing the existing pipelines in order to maintain service though its Ignacio to Sumas Line. In order to limit in-stream construction to the drier summer months, Northwest proposes to break the construction schedule into two parts: (1) construction of the replacement pipelines from June to October 2003, and (2) removal of the existing pipelines and of the previously abandoned 665-foot-long pipeline from April to August 2004. The location of the project facilities is shown in appendix 1, figures1-4.²

² The appendices referenced in this notice are not being printed in the Federal Register. Copies are available on the Commission's Web site at the “FERRIS” link or from the Commission's Public Reference and Files Maintenance Branch, 888 First Street, NE., Washington, DC 20426, or call (202) 502-8371. For instructions on connecting to FERRIS refer to the last page of this notice. Copies of the appendices were sent to all those receiving this notice in the mail.

Land Requirements for Construction

Construction of the proposed facilities would require 35 acres of land. The construction work area is comprised of 5 acres of existing permanent right-of-way and 30 acres of temporary work space. The construction work area is on 16.4 acres of forested riparian land in the floodplain and north slope, 13 acres of cropland/pasture, 4 acres of industrial land in the City of Auburn (for a utility yard), 1.5 acres of commercial property, and 1 acre of residential property. Due to the offsetting of the replacement pipelines 50 to 175 feet to the west, Northwest would require 3 additional acres of new permanent right-of-way but would relinquish 4.2 acres of existing permanent right-of-way.

The EA Process

The National Environmental Policy Act (NEPA) requires the Commission to take into account the environmental impacts that could result from an action whenever it considers the issuance of a Certificate of Public Convenience and Necessity. NEPA also requires us ³ to discover and address concerns the public may have about proposals. This process is referred to as “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

³ ”We”, “us”, and “our” refer to the environmental staff of the Office of Energy Projects (OEP).

The EA will discuss impacts that could occur as a result of the construction and operation of the proposed project under these general headings:

• geology and soils

• land use

• water resources, fisheries,and wetlands

• cultural resources

• vegetation and wildlife

• air quality and noise

• endangered and threatened species

• hazardous wastes

• public safety

• alternative routes

We will make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have already identified several issues that we think deserve attention based on a preliminary review of the proposed facilities and the environmental information provided by Northwest. This preliminary list of potential impacts may be changed based on your comments and our analysis.

• Federal species of concern which may occur in the project area and could be affected, including the chinook salmon, coho salmon, bull trout, and bald eagle.

• Use of temporary and permanent Right-Of-Way on the Muckleshoot Indian Reservation involving fisheries habitat associated with the White River.

• Permanent removal of the rip-rap structure from the north riverbank of the White River and reconstruction of the north riverbank.

• Residential/commercial area in and around State Road 164 and City of Auburn's Cameron Park.

Public Participation

You can make a difference by providing us with your specific comments or concerns about the project. By becoming a commentor, your concerns will be addressed in the EA and considered by the Commission. You should focus on the potential environmental effects of the proposal and measures to avoid or lessen environmental impact. The more specific your comments, the more useful they will be. Please carefully follow these instructions to ensure that your comments are received in time and properly recorded:

1. Send an original and two copies of your letter to: Magalie R. Salas, Secretary, Federal Energy Regulatory Commission, 888 First St., NE., Room 1A, Washington, DC 20426.

2. Label one copy of the comments for the attention of Gas 2 Branch.

3. Reference Docket No. CP03-32-000.

4. Mail your comments so that they will be received in Washington, DC on or before February 27, 2003

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created by clicking on “Login to File” and then “New User Account.”

We may mail the EA for comment. If you are interested in receiving it, please return the Information Request (appendix 4). If you do not return the Information Request, you will be taken off the mailing list.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2). ⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

This notice is being sent to individuals, organizations, and government entities interested in and/or potentially affected by the proposed project. It is also being sent to all identified potential right-of-way grantors. By this notice we are also asking governmental agencies, especially those in appendix 3, to express their interest in becoming cooperating agencies for the preparation of the EA.

Additional Information

Additional information about the project is available from the Commission's Office of External Affairs, at 1-866-208-FERC or on the FERC Internet Web site (http://www.ferc.gov) using the FERRIS link. Click on the FERRIS link, enter the docket number excluding the last three digits in the Docket Number field. Be sure you have selected an appropriate date range. For assistance with FERRIS, the FERRIS helpline can be reached at 1-866-208-3676, TTY (202) 502-8659, or at FERCOnlineSupport@ferc.gov. The FERRIS link on the FERC Internet Web site also provides access to the texts of formal documents issued by the Commission, such as orders, notices, and rulemakings.

Magalie R. Salas,
Secretary.

[FR Doc. 03-2380 Filed 1-31-03; 8:45 am]

BILLING CODE 6717-01-P